DEPARTMENT OF HEALTH AND HUMAN SERVICES

National Institutes of Health

Master Plan for Rocky Mountain Laboratories Record of Decision

ACTION: Notice.

SUMMARY: The National Institutes of Health (NIH), an operating division of the Department of Health and Human Services (HHS), has decided, after completion of a Final Environmental Impact Statement (FEIS) and a thorough consideration of the public comments on the Draft EIS and the Final EIS, to implement the Proposed Action, which is identified as the Preferred Alternative in the FEIS. This action involves the establishment of a long-range physical Master Plan for Rocky Mountain Laboratories (RML) in Hamilton, Montana to guide future development of the campus. This alternative accounts for potential growth in RML personnel, possible land acquisitions, and consequent construction of new administrative and research-related space over the 20-year planning period.

FOR FURTHER INFORMATION CONTACT: Valerie Nottingham, Chief of the Environmental Quality Branch, Division of Environmental Protection, Office of Research Facilities Development and Operations, NIH, Building 13, Room 2S11, 9000 Rockville Pike, Bethesda, MD 20892, Fax 301-480-8056, e-mail nihnepa@mail.nih.gov.

SUPPLEMENTARY INFORMATION:

Decision

After careful review of the environmental consequences in the FEIS for the Master Plan, Rocky Mountain Laboratories, and consideration of public comment throughout the NEPA process, the NIH has decided to implement the Proposed Action, described below as the Selected Alternative.

Selected Alternative

The Selected Alternative is intended to be a strategic tool for the efficient allocation of campus resources, the orderly accommodation of future growth, and the creation of an environment, which is both functionally and aesthetically conducive to accomplishing the RML mission. The Selected Alternative will provide a guide for the reasoned and orderly development of the RML campus, one that values and builds on existing resources, corrects current deficiencies and meets changing needs through new construction or renovations. The plan sets forth implementation priorities and a logical sequencing of planned development.

The Selected Alternative involves the establishment of a long-range physical Master Plan for RML. This alternative covers a 20-year planning period, with reviews every 5 years to ensure that the plan continues to address planning and development related issues affecting the campus. The alternative addresses the future development of the RML site, including placement of future construction; vehicular and pedestrian circulation on and off-campus; parking within the property boundaries; open space in and around the campus; required setbacks; historic properties; natural and scenic resources; noise; and lighting. This alternative accounts for potential growth in RML personnel, possible land acquisitions, and consequent construction of new administrative, research, and support space over the planning period. Future construction on the site could include such facilities as new animal holding, research laboratories, and support facilities. All future construction and renovation projects are contingent on programmatic need and funding.

NIH will continue to develop RML to accommodate NIH's and NIAID's research needs and required programmatic requirements consistent with the commitment to maintain the “campus” character of the site. The alternative advances these objectives by programming and locating future RML growth so that local services and utilities are available to support growth and establishing development guidelines for future changes to the site that ensure that, as the campus grows, new development would be responsive to the context of adjacent neighborhoods or developments.

Under the Selected Alternative, RML population is anticipated to grow in the next 20 years to a total campus population of 427. The primary growth at the campus would be in intramural research personnel and the administrative and facility staff to support them.

Alternatives Considered

The Proposed Action Alternative, Capacity Growth Alternative and No Action Alternative were the three alternatives analyzed in the FEIS. Each addresses the future development of the RML site, including placement of future construction; vehicular and pedestrian circulation on and off-campus; parking within the property boundaries; open space in and around the campus; required setbacks; historic properties; natural and scenic resources; noise; and lighting. They account for potential growth in RML personnel, possible land acquisitions, and consequent construction of space over the planning period. Future construction on the site could include such facilities as new animal holding, research laboratories, and support facilities.

Factors Involved in the Decision

HHS requires that NIH facilities have a Master Plan; however, there currently is no official Master Plan for the RML campus. In addition, factors such as the construction of Building 28, associated established physical security requirements, concerns in the Hamilton area about growth, and increased interest within the local community regarding activities on the RML campus have made clear the need for greater coordinated development of the campus. In order to accomplish the NIH mission, NIH has decided to prepare updated long-range facilities plans for all its campuses, including RML, to address issues of facility requirements, prudent land use, and orderly future development.

The Master Plan contains information and recommendations to guide development of individual projects on the site. It also serves as a means of informing city and county officials and utilities of future RML development plans so they can anticipate and plan for the potential effects of RML proposals on their respective systems.

Resources Impacts

The FEIS describes potential environmental effects of the Selected Alternative. These potential effects are documented in Chapter 3 of the Final EIS. Any potential adverse environmental effects will be avoided or mitigated through design elements, procedures, and compliance with regulatory and NIH requirements. Potential impacts on air quality are all within government standards (federal, state, and local). NIH does not expect any long-term negative effects on the environment or on the citizens of Hamilton from planned construction and operations at RML.

Summary of Impacts

The following is a summary of potential impacts resulting from the Selected Alternative that the NIH considered when making its decision. No adverse cumulative effects were identified during the NEPA process. Likewise, no unavoidable or adverse impacts from implementation of the Selected Alternative were found. The Selected Alternative will be beneficial to the long-term productivity of the national and world health communities by providing improved biomedical research facilities in which scientists can investigate human disease and disorders. Biomedical research conducted at the RML facility will have the potential to advance techniques in disease prevention, develop disease immunizations, and prepare defenses against naturally emerging and re-emerging diseases. Additionally, the local community will benefit from increased employment opportunities and new income generating activities.

Housing

RML is located in a residential area of Hamilton. Temporary impacts during construction are expected to have a minimal effect on the existing residential neighborhoods. The Selected Alternative will not have a significant, long-term impact on the housing supply in the area.

Education

The current public school capacity in Hamilton would be adequate to accommodate the expected minimal growth caused by the Selected Alternative.

Transportation

The development of the RML campus would produce increased traffic volumes on the area's roadways. The first ten years (beginning in 2005) would show the greatest increase in demand on the neighboring streets; in 20 years, there would be a total increase of 252 weekday trips. For Hamilton, this increase in weekday trips is still relatively small in comparison with the increase in background traffic for the collector routes in Hamilton as stated in the Hamilton Transportation Plan 2002.

Security

In conjunction with the planned expansion of the campus, a new expanded perimeter fence will be built. The perimeter security fence will have staffed and monitored entrance gates and/or turnstiles to provide controlled access into the campus. Additional openings in the perimeter fence, beyond those planned, potentially tax personnel resources and physical security. All new construction must comply with the NIH Physical Security Design Guidelines to ensure the safety of persons and research. Visitors would continue to be screened in the Visitor Center and deliveries would be screened in the Shipping and Receiving Building.

Employment

If the Selected Alternative is fully implemented, up to 77 new employees over the current (2008) 350 employees would be hired.

Environmental Justice

The areas of potential effect for environmental justice are neighborhoods and populations adjacent to the Project area. Five steps are used to determine environmental justice issues: (1) Identify minority and low-income populations in the area affected by the Project; (2) consider relevant public health data and industry data regarding multiple and cumulative exposure of minority and low-income populations to human health or environmental hazards; (3) recognize interrelated cultural, social, occupational, historical, and economic factors that could amplify environmental effects of the Project; (4) develop effective public participation strategies that overcome linguistic, cultural, institutional, geographic, and other barriers; and (5) assure meaningful community representation. Low-income population refers to a community in which 25 percent or more of the population is characterized as living in poverty, as determined by statistical poverty thresholds used by the federal government. The area of potential effect does not have minority or low-income populations that fulfill the first step, In the absence of potentially affected low-income or minority populations in the affected area, the Selected Alternative will not have a disparate impact on any Environmental Justice populations.

Visual Quality

All new development follows the orthogonal grid initially generated by the Historic Core and subsequent Buildings 13, 25, and 28. This pattern is continued and built on with the placement of new buildings. Advantages of developing the campus on a grid system include ease of integration with existing orthogonally oriented structures, efficiency of land use, economical integration with, and extension of, the utility distribution system, and the acknowledgment and further establishment of a clearly defined pattern to guide future growth.

Noise

RML has established self-imposed Noise Criteria to limit the amount of noise at the campus boundaries. RML also has a program specifically focused on reducing noise and ensuring that the campus is in compliance with the Noise Criteria. Each new project has a noise analysis as part of the design to show that the new project would keep the campus in compliance with noise standards. After each project is complete, the noise levels are measured to ensure that the requirements have been met. As a new project progresses, RML would identify potential noise problems in the design phase, and determine what, if any, noise control measures would be implemented to meet the RML Campus Noise Criteria.

Air Quality

Gaseous and particulate emissions are generated during normal operations at RML. The new lab and animal space and additional waste produced by campus activities under the Selected Alternative result in increased direct impacts. Research personnel also will generate medical waste. Increases in incinerator, boiler, and generator emissions would be monitored under conditions of the RML air quality permits and all air quality would be within Montana DEQ and EPA acceptable limits

Water/Wastewater Supply

Monthly average per gross square foot (gsf) water usage rates for each building type at RML were multiplied by the gross square footage in the implementation projection to estimate future water usage. Based on these projections, water use would increase 89 percent over the 20-year planning period from the 37.4 millions gallons/year measured inflow to the campus in 2007/2008. Increased water consumption by RML would contribute to increased municipal supply demands by the City of Hamilton Department of Public Works (CHDPW), although the increases are not expected to exceed the capability of the system. Federal mandates to cut water consumption would have the effect of reducing consumption in the long-term. Campus expansion would be coordinated with the implementation of the RML Environmental Management System that is in place. In an effort to minimize waste and conserve resources, RML has formed a Water Management Group that evaluates campus water consumption and develops ways to increase water use efficiency.

As Hamilton is a rapidly growing area, the city utility infrastructure is in the process of being updated and expanded and would not be negatively impacted by the future RML expansion described in the Selected Alternative. The CHDPW Wastewater Treatment Plant (WWTP) is operating at or near capacity. To meet increased solids storage and handling and to increase throughput, the CHDPW is planning a facilities expansion. Increased wastewater discharge from RML campus growth plans would compound the CHDPW shortcomings with respect to increased throughput (and possible solid storage) until the facility expansion is realized; however, the WWTP upgrades are scheduled prior to major additions. The indirect consequence of wastewater discharge from the RML facility to the CHDPW is that it will contribute to an increased total maximum daily load from the WWTP; however, campus growth at RML is not expected to result in any decrease in effluent water quality.

Historic Resources

The actions proposed by the Selected Alternative would have no adverse effect on the RML Historic District.

Practicable Means To Avoid or Minimize Potential Environmental Harm From the Selected Alternative

All practicable means to avoid or minimize adverse environmental effects from the Selected Alternative have been identified and incorporated into the action. The proposed Master Plan construction will be subject to the existing RML pollution prevention, waste management, and safety, security, and emergency response procedures as well as existing environmental permits. Best management practices, spill prevention and control, and stormwater management plans will be followed to appropriately address the construction and operation of the new Master Plan development and comply with applicable regulatory and NIH requirements. No additional mitigation measures have been identified.

Pollution Prevention

Air quality permit standards will be met, as will all federal, state, and local requirements to protect the environment and public health. RML would continue to operate under Montana Department of Environmental Quality (DEQ) permit 2991-04 and EPA Title V Operating Permit #OP2991-00, and would comply with all applicable traps, ambient standards and meet the provisions of ARM Title 17. Montana DEQ would continue to monitor activities at RML to ensure compliance with applicable air quality regulations. The NIH will develop a stormwater pollution prevention plan (SWPPP) for construction projects over one acre and acquiring the proper Montana DEQ permits. Appropriate BMPs for sediment control during construction activities would include practices such as installing silt fences, or creating sediment.

Monitoring and Enforcement Program

The NIH will develop a monitoring and enforcement program to ensure that all practicable mitigation measures developed for activities under the Selected Alternative are fully implemented. The mitigation measures covered by the monitoring and enforcement program will include the Noise Criteria and air quality permits described above.

Conclusion

Based upon review and careful consideration, the NIH has decided to implement the Selected Alternative as the long-range physical Master Plan for Rocky Mountain Laboratories in Hamilton, Montana. The decision accounts for potential growth in RML personnel, possible land acquisitions, and consequent construction of new administrative and research space over the 20-year planning period.

The decision was based upon review and careful consideration of the impacts identified in the FEIS and public comments received throughout the NEPA process.

Dated: April 28, 2009.
Daniel G. Wheeland,
Director, Office of Research Facilities Development and Operations, National Institutes of Health.

[FR Doc. E9-10290 Filed 5-4-09; 8:45 am]

BILLING CODE 4140-01-P